DEPARTMENT OF DEFENSE

Office of the Secretary

Defense Task Force on Sexual Assault in the Military Services

AGENCY: Office of the Assistant Secretary of Defense (Personnel and Readiness); DoD.

ACTION: Committee meeting.

SUMMARY: Pursuant to the Federal Advisory Committee Act of 1972 (5 U.S.C., Appendix, as amended), the Sunshine in the Government Act of 1976 (5 U.S.C. 552b, as amended), 41 CFR 102-3.140 and 41 CFR 102-3.150, announcement is made of the following committee meeting of the Defense Task Force on Sexual Assault in the Military Services (hereafter referred to as the Task Force).

DATES: August 11, 2008 through August 15, 2008 (8 a.m. to 5 p.m.).

ADDRESSES: Embassy Suites Alexandria—Old Town, Windsor East, 1900 Diagonal Road, Alexandria, VA 22314.

FOR FURTHER INFORMATION CONTACT: Col Jackson-Chandler, Designated Federal Officer, Defense Task Force on Sexual Assault in the Military Services, 2850 Eisenhower Ave, Suite 100, Alexandria, Virginia 22314, Telephone: (703) 325-6640, DSN# 221, Fax: (703) 325-6710/6711, E-mail: cora.chandler@wso.whs.mil.

SUPPLEMENTARY INFORMATION:

Purpose of the Meeting: The purpose of this open meeting is to obtain information related to the Task Force's congressionally mandated task to examine matters related to sexual assault in the military services through briefings from the Department of Defense (DoD) experts, and DoD agencies; the Department of Veteran Affairs and the Department of Justice; the Alliance for National Defense and the Law Office of Mr. Charles Gittins.

Agenda:

Monday, Aug 11, 2008
Day 1
8 a.m.-8:15 a.m. | Opening Remarks | Co-Chairs.
8:15 a.m.-9:15 a.m. | U.S. Navy Briefing | Mr. Paul Finch.
| Sexual Assault Program
| Training
| Cultural Sensitivity/Competency
10 a.m.-10:15 a.m. | Break
10:15 a.m.-11:30 p.m. | SAPR & VA Program | Mr. Paul Finch.
| Medical
| Mental Health
| Pastoral Care
| Legal
| Law Enforcement/Investigations
11:30 a.m.-12:30 p.m. | Lunch
12:30 p.m.-1:30 p.m. | Violence Against Women | Honorable Diane Stuart, Former Department of Justice.
1:30 p.m.-2:30 p.m. | Discussion of Site | Ms. Lysbeth Spence.
| Visit Focus | Ms. Anita Boyd, SAPR Analyst.
| Group Questions
2:30 p.m.-2:45 p.m. | Break
2:45 p.m.-4:30 p.m. | Travel Schedule | Tom Cuthbert, Senior Policy Advisor.
4:30 p.m.-5 p.m. | Wrap Up | Lonnie Weiss, Facilitator.
Tuesday, Aug 12, 2008
Day 2
8 a.m. -9 a.m. | National Guard Sexual Assault Prevention & Response Program Overview | Mr. Kevin Crowley, Deputy Manpower & Personnel Directorate.
9 a.m.-10 a.m. | Military Criminal Justice | Mr. Robert Reed, Associate, Deputy General Counsel.
10 a.m.-10:15 a.m. | Break
10:15 a.m.-12 p.m. | U.S. Air Force Briefing | Ms. Charlene Bradley, Asst. Deputy for Force Management Integration.
| Sexual Assault Program
| Training | Office of Sexual Assault Prevention and Response.
| Cultural Sensitivity/Competency
12 p.m.-1 p.m. | Lunch
1 p.m.-4:30 p.m. | U.S. Air Force Briefing Continued: | Office of Sexual Assault Prevention and Response.
| SAPR & VA Program
| Medical
| Mental Health
| Pastoral Care
| Legal
| Law Enforcement/Investigations
4:30 p.m.-5 p.m. | Wrap Up | Ms. Debbie Gray, SAPR Analyst.
Wednesday, Aug 13, 2008
Day 3
8 a.m.-9 a.m. | Alliance for National Defense | Ms. Sherry de Vries, Vice President.
9 a.m.-10 a.m. | Veterans Affairs | Dept of Veterans Affairs.
| Women's Issues
10 a.m.-10:15 a.m. | Break
10:15 a.m.-12 p.m. | U.S. Army Briefing | Ms. Carolyn Collins, Sexual Assault Prevention & Response Program Manager.
| Sexual Assault Program
| Training
| Cultural Sensitivity/Competency
12 p.m.-1 p.m. | Lunch
1 p.m.-4:30 p.m. | U.S. Army Briefing Continued:
| SAPR & VA Program | Mr. Richard Myer.
| Medical | LTC (P) Murray, MEDCOM.
| Mental Health | Ms. Hubert, MEDCOM.
| Pastoral Care | Chap. Strohn (tentative).
| Legal | Mr. Cosgrove, OTJAG.
| Law Enforcement/Investigations | Mr. Surian, CID.
4:30 p.m.-5 p.m. | Wrap Up | Ms. Debbie Gray, SAPR Analyst.
Thursday, Aug 14, 2008
Day 4
8 a.m.-9 a.m. | Defense Incident Based | Mr. John Autrey.
| Reporting System (DIBRS)
9 a.m.-10 a.m. | Defense Attorney | Mr. Charles Gittins, The Law Office of Charles Gittins.
10 a.m.-10:15 a.m. | Break
10:15 a.m.-12 p.m. | U.S. Marine Corps Briefing | Mr. Ray Bruneau, Section, Head SAPRO.
| Sexual Assault Program
| Training
| Cultural Sensitivity/Competency
12 p.m.-1 p.m. | Lunch
1 p.m.-4:30 p.m. | U.S. Marine Corps Briefing Continued: | Mr. Ray Bruneau, Section Head SAPRO.
| SAPR & VA Program
| Medical
| Mental Health
| Pastoral Care
| Legal
| Law Enforcement/Investigations
4:30 p.m.-5 p.m. | Wrap Up | Ms. Debbie Gray, SAPR Analyst.
Friday, Aug 15, 2008
Day 5
8 a.m.-10 a.m. | Executive Level Focus | Mr. Paul Cook.
| Group Training | Ms. Lindsay Rock, Defense Manpower Data Center.
10 a.m.-10:15 a.m. | Break
10:15 a.m.-11:30 a.m. | 2006 Gender Relations | Ms. Rachel Lipari, Defense Manpower Data Center.
| Survey
11:30 a.m.-12:30 p.m. | Lunch
12:30 p.m.-4:30 p.m. | SAPR Programs: Oversight | Dr. Kaye Whitley, Director OSD SAPRO.
| Training | OSD SAPRO.
| Cultural Sensitivity/Competency
| SAPRA Programs
| Measures of Effectiveness
| Victim Care | Lt. Col. Nate Galberth, Dep.
| Victim Advocacy | Director OSD SAPRO.
| Restricted & Unrestricted Reporting | OSD SAPRO.
| DoD Policy | Teresa Scalzo, Esq., Senior Policy Advisor, OSD SAPRO.
| Legal/Investigations
| Break
| Data Case Records | OSD SAPRO.
| Management System (DECRMS)
| Resources | OSD SAPRO.
4:30 p.m.-5 p.m. | Wrap Up | Ms. Debbie Gray, SAPR Analyst.

The Task Force's meeting will be held at Embassy Suites Alexandria—Old Town, Windsor East, 1900 Diagonal RD, Alexandria, VA 22314 from 8 a.m. to 5 p.m. Monday August 11, 2008 through Friday, August 15, 2008. The meeting is open to the public pursuant to 5 U.S.C. 552b, as amended, and 41 CFR 102-3.140 through 102-3.165, and subject to the availability of space.

Pursuant to 41 CFR 102-3.105(j), 102-3.140 (c), section 10(a)(3) of the Federal Advisory Committee Act, as amended, and subject to the procedures outlined in this notice, any member of the public or interested organizations may submit written statements to the Defense Task Force on Sexual Assault in the Military Services membership about the stated agenda and/or to give input as to the mission and function of the task force. Though written statements may be submitted at any time for consideration or in response to a stated agenda to a planned meeting, statements must be received in a timely fashion for consideration at a specific meeting.

All written statements intended to be considered for the meeting that is the subject of this notice shall be submitted to the Designated Federal Officer for the Defense Task Force on Sexual Assault in the Military Services no later that August 4, 2008, and this individual will review all timely submitted written statements and will provide those statements to the task force membership for their consideration. Contact information for the Designated Federal Officer is provided in this notice or can be obtained from the GSA's FACA Database— https://www.fido.gov/facadatabase/public.asp.

The Designated Federal Officer, pursuant to 41 CFR 102-3.150, will announce planned meetings of the Defense Task Force on Sexual Assault in the Military Services. The Designated Federal Officer, at that time, may provide additional guidance on the submission of written statements and/or live testimony that are in response to the stated agenda for the planned meeting in question.

Dated: July 11, 2008.
Patricia L. Toppings,
OSD Federal Register Liaison Officer, Department of Defense.

[FR Doc. E8-16417 Filed 7-17-08; 8:45 am]

BILLING CODE 5001-06-P